DEPARTMENT OF COMMERCE

National Oceanic and Atmospheric Administration

RIN 0648-XC62

New England Fishery Management Council; Public Meeting

AGENCY: National Marine Fisheries Service (NMFS), National Oceanic and Atmospheric Administration (NOAA), Commerce.

ACTION: Notice of a public meeting.

SUMMARY: The New England Fishery Management Council (Council) is scheduling a public meeting of its Monkfish Oversight Committee, in October, 2007, to consider actions affecting New England fisheries in the exclusive economic zone (EEZ). Recommendations from this group will be brought to the full Council for formal consideration and action, if appropriate.

DATES: This meeting will be held on Wednesday, October 3, 2007, at 9:30 a.m.

ADDRESSES: This meeting will be held at the Hilton Garden Inn, One Thuber Street, Warwick, RI 02886; telephone: (401) 734-9600; fax: (401) 734-9700.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The Committee will identify alternatives to be developed for consideration in Framework Adjustment 5 possibly including, but not limited to, changes to the biological reference points (as recommended by the recent stock assessment workshop), days-at-sea (DAS) carryover limits, minimum mesh requirements for vessels fishing on a monkfish/multispecies DAS, monkfish landings under the 3-hour gillnet rule, frontloading of monkfish DAS, Mid-Atlantic area large mesh monkfish incidental catch limits, monkfish gillnet rules for vessels fishing as a multispecies trip gillnet vessel and the requirement to obtain a monkfish Letter of Authorization to fish in the northern management area. The final list of issues to be addressed depends on the decisions of the New England Fishery Management Council at its September meeting.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard, Executive Director, at (978) 465-0492, at least 5 days prior to the meeting date.

Authority: 16 U.S.C. 1801 et seq.

Dated: September 12, 2007.
Emily Menashes,
Acting Director, Office of Sustainable Fisheries, National Marine Fisheries Service.

[FR Doc. E7-18227 Filed 9-14-07; 8:45 am]

BILLING CODE 3510-22-S